DEPARTMENT OF DEFENSE

Defense Acquisition Regulations System

48 CFR Parts 206 and 225

RIN 0750-AF62

Defense Federal Acquisition Regulation Supplement; Deletion of Obsolete Acquisition Procedures (DFARS Case 2006-D046)

AGENCY: Defense Acquisition Regulations System, Department of Defense (DoD).

ACTION: Final rule.

SUMMARY: DoD has issued a final rule amending the Defense Federal Acquisition Regulation Supplement (DFARS) to remove text relating to obsolete requirements for maintenance of paper-based solicitation mailing lists and for furnishing of documents to certain entities.

EFFECTIVE DATE: April 26, 2007.

FOR FURTHER INFORMATION CONTACT: Ms. Amy Williams, Defense Acquisition Regulations System, OUSD (AT&L) DPAP (DARS), IMD 3C132, 3062 Defense Pentagon, Washington, DC 20301-3062. Telephone (703) 602-0328; facsimile (703) 602-0350. Please cite DFARS Case 2006-D046.

SUPPLEMENTARY INFORMATION:

A. Background

This final rule amends DFARS text as follows:

○ 206.303-1—Removes text designating the Director of Defense Procurement and Acquisition Policy as the agency point of contact for submission of certain justification and approval documents to the U.S. Trade Representative. This text is no longer applicable, as the underlying Federal Acquisition Regulation (FAR) requirement for submission of these documents to the U.S. Trade Representative was removed by the interim rule that was published at 69 FR 77870 on December 28, 2004, and finalized at 71 FR 219 on January 3, 2006.

○ 225.870-2 and 225.872-3—Removes text addressing requirements for inclusion of Canadian firms and qualifying country sources on solicitation mailing lists, and for sending solicitations to the Canadian Commercial Corporation as well as Canadian firms appearing on the lists. This text is no longer applicable, as solicitation mailing lists have been replaced by electronic tools such as the Central Contractor Registration database and the Federal Business Opportunities Web site. The FAR was amended to remove references to solicitation mailing lists in the final rule published at 68 FR 43855 on July 24, 2003.

This rule was not subject to Office of Management and Budget review under Executive Order 12866, dated September 30, 1993.

B. Regulatory Flexibility Act

This rule will not have a significant cost or administrative impact on contractors or offerors, or a significant effect beyond the internal operating procedures of DoD. Therefore, publication for public comment under 41 U.S.C. 418b is not required. However, DoD will consider comments from small entities concerning the affected DFARS subparts in accordance with 5 U.S.C. 610. Such comments should cite DFARS Case 2006-D046.

C. Paperwork Reduction Act

The Paperwork Reduction Act does not apply, because the rule does not impose any information collection requirements that require the approval of the Office of Management and Budget under 44 U.S.C. 3501, et seq.

List of Subjects in 48 CFR Parts 206 and 225

Government procurement.

Michele P. Peterson,
Editor, Defense Acquisition Regulations System.

Therefore, 48 CFR parts 206 and 225 are amended as follows:

1. The authority citation for 48 CFR parts 206 and 225 continues to read as follows:

Authority: 41 U.S.C. 421 and 48 CFR Chapter 1.

PART 206—COMPETITION REQUIREMENTS

206.303 and 206.303-1 [Removed]

2. Sections 206.303 and 206.303-1 are removed.

PART 225—FOREIGN ACQUISITION

225.870-2 [Amended]

3. Section 225.870-2 is amended as follows:

a. By removing paragraphs (a) through (c); and

b. By redesignating paragraphs (d) and (e) as paragraphs (a) and (b) respectively.

225.872-3 [Amended]

4. Section 225.872-3 is amended as follows:

a. By removing paragraph (a); and

b. By redesignating paragraphs (b) through (g) as paragraphs (a) through (f) respectively.

[FR Doc. E7-7907 Filed 4-25-07; 8:45 am]

BILLING CODE 5001-08-P